DEPARTMENT OF ENERGY

Federal Energy Regulatory Commission

[Docket No. RP02-69-001]

PG&E Gas Transmission, Northwest Corporation; Notice of Compliance Filing

January 2, 2002.

Take notice that on December 19, 2001, PG&E Gas Transmission, Northwest Corporation (GTN) tendered for filing as part of its FERC Gas Tariff, First Revised Volume No. 1-A, the following substitute tariff sheets: Substitute Thirty-fifth Revised Sheet No. 4, Substitute Nineteenth Revised Sheet No. 4A and Substitute Fourteenth Revised Sheet No. 6C. GTN states that these tariff sheets establish GTN's Gas Research Institute (“GRI”) surcharge for calendar year 2002. GTN proposes that these sheets be made effective January 1, 2002.

GTN further states that a copy of this filing has been served on GTN's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-351 Filed 1-7-02; 8:45 am]

BILLING CODE 6717-01-P